DEPARTMENT OF ENERGY

Federal Energy Regulatory Commission

Combined Notice of Filings #2

Take notice that the Commission received the following exempt wholesale generator filings:

Docket Numbers: EG11-125-000.

Applicants: Alliant Energy Corporate Services, Inc.

Description: Self-Certification of EG Exempt Wholesale Generator Status of Alliant Energy Corporate Services, Inc on behalf of Franklin County Wind, LLC.

Filed Date: 09/14/2011.

Accession Number: 20110914-5059.

Comment Date: 5 p.m. Eastern Time on Wednesday, October 05, 2011.

Take notice that the Commission received the following electric rate filings:

Docket Numbers: ER11-4516-000.

Applicants: Puget Sound Energy, Inc.

Description: Puget Sound Energy, Inc. submits tariff filing per 35.12: BPA Interconnection Agreement—Orcas Island to be effective 10/1/2011.

Filed Date: 09/14/2011.

Accession Number: 20110914-5000.

Comment Date: 5 p.m. Eastern Time on Wednesday, October 05, 2011.

Docket Numbers: ER11-4517-000.

Applicants: Puget Sound Energy, Inc.

Description: Puget Sound Energy, Inc. submits tariff filing per 35.12: BPA Network Integratn TX Service Agreemt for Orcas, Original Serv Agreemt No 526 to be effective 10/1/2011.

Filed Date: 09/14/2011.

Accession Number: 20110914-5001.

Comment Date: 5 p.m. Eastern Time on Wednesday, October 05, 2011.

Docket Numbers: ER11-4518-000.

Applicants: Puget Sound Energy, Inc.

Description: Puget Sound Energy, Inc. submits tariff filing per 35.12: BPA Network Operating Agreement for Orcas, Original Service Agreemt No 527 to be effective 10/1/2011.

Filed Date: 09/14/2011.

Accession Number: 20110914-5002.

Comment Date: 5 p.m. Eastern Time on Wednesday, October 05, 2011.

Docket Numbers: ER11-4519-000.

Applicants: Florida Power & Light Company.

Description: Florida Power & Light Company submits tariff filing per 35.13(a)(2)(iii): FPL and OUC First Revised Service Agreement No. 297 to be effective 10/1/2011.

Filed Date: 09/14/2011.

Accession Number: 20110914-5038.

Comment Date: 5 p.m. Eastern Time on Thursday, September 22, 2011.

Docket Numbers: ER11-4520-000.

Applicants: Grant Energy, Inc.

Description: Grant Energy, Inc. submits tariff filing per 35.1: Grant Energy Market Based Rates Re-file to be effective 9/14/2011.

Filed Date: 09/14/2011.

Accession Number: 20110914-5044.

Comment Date: 5 p.m. Eastern Time on Wednesday, October 05, 2011.

Docket Numbers: ER11-4521-000.

Applicants: PJM Interconnection, LLC.

Description: PJM Interconnection, LLC submits tariff filing per 35.13(a)(2)(iii): Queue Position No. S38—Original Service Agreement No. 3053 to be effective 8/15/2011.

Filed Date: 09/14/2011.

Accession Number: 20110914-5066.

Comment Date: 5 p.m. Eastern Time on Wednesday, October 05, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 14, 2011.
Nathaniel J. Davis, Sr.,
Deputy Secretary.

[FR Doc. 2011-24185 Filed 9-20-11; 8:45 am]

BILLING CODE 6717-01-P